DEPARTMENT OF COMMERCE

International Trade Administration

[A-588-843, A-580-829, A-583-828]

Stainless Steel Wire Rod From Japan, the Republic of Korea, and Taiwan: Continuation of the Antidumping Duty Orders

AGENCY: Enforcement and Compliance, International Trade Administration, Department of Commerce.

SUMMARY: As a result of the determinations by the Department of Commerce (Commerce) and the U.S. International Trade Commission (ITC) that revocation of the antidumping duty (AD) orders on stainless steel wire rod (SSWR) from Japan, the Republic of Korea (Korea), and Taiwan would likely lead to a continuation or recurrence of dumping and material injury to an industry in the United States, Commerce is publishing a notice of continuation of these AD orders.

DATES: Applicable February 24, 2022.

FOR FURTHER INFORMATION CONTACT: Christopher Williams or Minoo Hatten, AD/CVD Operations, Office I, Enforcement and Compliance, International Trade Administration, U.S. Department of Commerce, 1401 Constitution Avenue NW, Washington, DC 20230; telephone: (202) 482-5166 or (202) 482-1690, respectively.

SUPPLEMENTARY INFORMATION:

Background

On September 15, 1998, Commerce published in the Federal Register the AD orders on SSWR from Japan, Korea, and Taiwan.¹ On July 1, 2021, Commerce initiated,² and the ITC instituted,³ sunset reviews of the Orders, pursuant to section 751(c) of the Tariff Act of 1930, as amended (the Act).

¹ See Notice of Amendment of Final Determination of Sales at Less Than Fair Value and Antidumping Duty Order: Stainless Steel Wire Rod from Korea, 63 FR 49331 (September 15, 1998); see also Notice of Antidumping Duty Order: Stainless Steel Wire Rod from Japan, 63 FR 49328 (September 15, 1998); and Notice of Amendment of Final Determination of Sales at Less Than Fair Value and Antidumping Duty Order: Stainless Steel Wire Rod from Taiwan, 63 FR 49332 (September 15, 1998) (collectively, Orders).

² See Initiation of Five-Year (Sunset) Reviews, 86 FR 35070 (July 1, 2021).

³ See Stainless Steel Wire Rod from Japan, Korea, and Taiwan; Institution of a Five-Year Review, 86 FR 35124 (July 1, 2021).

As a result of its reviews, Commerce determined, pursuant to sections 751(c)(1) and 752(c) of the Act, that revocation of the Orders would likely lead to continuation or recurrence of dumping. Commerce, therefore, notified the ITC of the magnitude of the margins of dumping rates likely to prevail should these Orders be revoked.⁴

⁴ See Stainless Steel Wire Rod from Japan, the Republic of Korea, and Taiwan: Final Results of the Expedited Sunset Reviews of the Antidumping Duty Orders, 86 FR 56249 (October 8, 2021), and accompanying Issues and Decision Memorandum (IDM).

On February 16, 2022, the ITC published its determination that revocation of the Orders would likely lead to a continuation or recurrence of material injury to an industry in the United States within a reasonably foreseeable time, pursuant to sections 751(c) and 752(a) of the Act.⁵

⁵ See Stainless Steel Wire Rod from Japan, South Korea, and Taiwan; Determinations, Inv. Nos. 731-TA-771-772 and 775 (Fourth Review), 87 FR 8878 (February 16, 2022), see also USITC Pub. 5279 (February 2022).

Scope of the Orders

The merchandise covered by the Orders is SSWR, which comprises products that are hot-rolled or hot-rolled annealed and/or pickled and/or descaled rounds, squares, octagons, hexagons or other shapes, in coils, that may also be coated with a lubricant containing copper, lime or oxalate. SSWR is made of alloy steels containing, by weight, 1.2 percent or less of carbon and 10.5 percent or more of chromium, with or without other elements. These products are manufactured only by hot-rolling or hot rolling annealing, and/or pickling and/or descaling, are normally sold in coiled form, and are of solid cross-section. The majority of SSWR sold in the United States is round in cross-sectional shape, annealed and pickled, and later cold finished into stainless steel wire or small-diameter bar. The most common size for such products is 5.5 millimeters or 0.217 inches in diameter, which represents the smallest size that normally is produced on a rolling mill and is the size that most wire-drawing machines are set up to draw. The range of SSWR sizes normally sold in the United States is between 0.20 inches and 1.312 inches in diameter.

Two stainless steel grades are excluded from the scope of the Orders. SF20T and K-M35FL are excluded. The chemical makeup for the excluded grades is as follows:

SF20T

Carbon 0.05 max

Manganese 2.00 max

Phosphorous 0.05 max

Sulfur 0.15 max

Silicon 1.00 max

Chromium 19.00/21.00

Molybdenum 1.50/2.50

Lead-added (0.10/0.30)

Tellurium-added (0.03 min)

K-M35FL

Carbon 0.015 max

Silicon 0.70/1.00

Manganese 0.40 max

Nickel 0.30 max

Chromium 12.50/14.00

Lead 0.10/0.30

Phosphorous 0.04 max

Sulfur 0.03 max

Aluminum 0.20/0.35

The products subject to the Orders are currently classifiable under subheadings 7221.00.0005, 7221.00.0015, 7221.00.0030, 7221.00.0045, and 7221.00.0075 of the Harmonized Tariff Schedule of the United States (HTSUS). Although the HTSUS subheadings are provided for convenience and customs purposes, the written description of the scope of the Orders is dispositive.

Continuation of the Orders

As a result of the determinations by Commerce and the ITC that revocation of the Orders would likely lead to a continuation or recurrence of dumping and material injury to an industry in the United States, pursuant to section 751(d)(2) of the Act and 19 CFR 351.218(a), Commerce hereby orders the continuation of the Orders. U.S. Customs and Border Protection will continue to collect AD cash deposits at the rates in effect at the time of entry for all imports of subject merchandise.

The effective date of the continuation of the Orders will be the date of publication in the Federal Register of this notice of continuation. Pursuant to section 751(c)(2) of the Act and 19 CFR 351.218(c)(2), Commerce intends to initiate the next five-year (sunset) reviews of the Orders not later than 30 days prior to the fifth anniversary of the effective date of continuation.

Administrative Protective Order (APO)

This notice also serves as the only reminder to parties subject to APO of their responsibility concerning the return, destruction, or conversion to judicial protective order of proprietary information disclosed under APO in accordance with 19 CFR 351.305(a)(3). Failure to comply is a violation of the APO which may be subject to sanctions.

Notification to Interested Parties

These five-year sunset reviews and this notice are in accordance with section 751(c) of the Act and published pursuant to section 777(i)(1) of the Act and 19 CFR 351.218(f)(4).

Dated: February 17, 2022.
Lisa W. Wang,
Assistant Secretary for Enforcement and Compliance.

[FR Doc. 2022-03894 Filed 2-23-22; 8:45 am]

BILLING CODE 3510-DS-P